DEPARTMENT OF TRANSPORTATION

Federal Aviation Administration

Twenty Eighth Meeting; RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the twenty eighth meeting of the RTCA Special Committee 213, Enhanced Flight Vision Systems/Synthetic Vision Systems (EFVS/SVS).

DATES: The meeting will be held April 14-16th 2015 from 8:30 a.m.-5:00 p.m. on April 14-15 and 8:30 a.m.-4:00 p.m. on April 16.

ADDRESSES: Dassault Aviation, 78 qual Marcel Dassault 92214 Saint-Cloud France.

FOR FURTHER INFORMATION CONTACT: Tim Etherington, tjetheri@rockwellcollins.com, (319) 295-5233 or mobile at (319) 431-7154, Patrick Krohn, pkrohn@uasc.com, telephone (425) 602-1375 or mobile at (425) 829-1996 and The RTCA Secretariat, 1150 18th Street, NW., Suite 910, Washington, DC 20036, or by telephone at (202) 330-0652/(202) 833-9339, fax at (202) 833-9434, or Web site at http://www.rtca.org. Additional contact information: RTCA contact is Jennifer Iverson, jiverson@rtca.org, (202) 330-0662.

All attendees are required to provide the following information by email to Martine.levesque@dassault-aviation.com and Alain.boucher@dassault-aviation.com no later than March 27th. If this information is not provided, you will be unable to attend the meeting.

• Last and first name

• Date and place of birth

• Nationality

• Passport number (ID number will be ok for French citizens)

• Company and position.

SUPPLEMENTARY INFORMATION: Pursuant to section 10(a) (2) of the Federal Advisory Committee Act (Pub. L. 92-463, 5 U.S.C., App.), notice is hereby given for a meeting of Special Committee 213. The agenda will include the following:

Tuesday, April 14

• Plenary discussion (sign-in at 08:00 a.m.)

○ Introductions and administrative items

○ Review and approve minutes from last full plenary meeting

○ Review of terms of reference (if needed)

○ WG1, WG2 and WG3 status updates

○ Industry updates

○ WG2 Draft Document

Wednesday, April 15

• Plenary discussion

• WG2 Draft Document

• WG3 discussion

• WG1 discussion

Thursday, April 16

• Plenary discussion

• WG2 Draft Document

• WG3 discussion

• Administrative items (new meeting location/dates, action items etc.)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 4, 2015.
Mohannad Dawoud,
Management Analyst, NextGen, Program Oversight and Administration, Federal Aviation Administration.

[FR Doc. 2015-05409 Filed 3-6-15; 8:45 am]

BILLING CODE 4910-13-P